DEPARTMENT OF HEALTH AND HUMAN SERVICES

National Institutes of Health

National Institute of General Medical Sciences; Amended Notice of Meeting

Notice is hereby given of a change in the meeting of the National Institute of General Medical Sciences Special Emphasis Panel, March 14, 2005, 8 a.m. to March 15, 2005, 5 p.m., Bethesda Marriott Suites, 6711 Democracy Boulevard, Bethesda, MD 20817 which was published in the Federal Register on February 18, 2005, 70 FR 8394.

The meeting dates and times have not changed. However, the panel name has been changed from Small Scale Centers for the Protein Structure Initiative to Specialized Centers for the Protein Structure Initiative. The meeting is closed to the public.

Dated: March 4, 2005.
LaVerne Y. Stringfield,
Director, Office of Federal Advisory Committee Policy.

[FR Doc. 05-4860 Filed 3-10-05; 8:45 am]

BILLING CODE 4140-01-M